DEPARTMENT OF THE INTERIOR

Fish and Wildlife Service

50 CFR Part 17

[Docket No. FWS-HQ-ES-2013-0073; FXES11130900000C2-134-FF09E32000]

RIN 1018-AY00

Endangered and Threatened Wildlife and Plants; Removing the Gray Wolf (Canis lupus) From the List of Endangered and Threatened Wildlife and Maintaining Protections for the Mexican Wolf (Canis lupus baileyi) by Listing It as Endangered

AGENCY: Fish and Wildlife Service, Interior.

ACTION: Proposed rule; notice of availability and reopening of comment period.

SUMMARY: We, the U.S. Fish and Wildlife Service (Service), announce the reopening of the public comment period on our June 13, 2013, proposal to remove the gray wolf (Canis lupus) from the List of Endangered and Threatened Wildlife but to maintain endangered status for the Mexican wolf by listing it as a subspecies (Canis lupus baileyi). We also announce the availability of the independent scientific peer review report on the proposal. We are reopening the comment period for 45 days to allow all interested parties an opportunity to comment on our proposed rule in light of the peer review report on this proposal. The comment period is scheduled to close on March 27, 2014. Comments previously submitted need not be resubmitted and will be fully considered in preparation of the final rule.

DATES: The public comment period on the proposal to remove the gray wolf (Canis lupus) from the List of Endangered and Threatened Wildlife but to maintain endangered status for the Mexican wolf by listing it as a subspecies (Canis lupus baileyi) that was published on June 13, 2013 (78 FR 35664), is reopened and will close on March 27, 2014. Please note comments submitted electronically using the Federal eRulemaking Portal (see ADDRESSES section, below) must be received by 11:59 p.m. Eastern Time on the closing date. If you are submitting your comments by hard copy, please mail them by March 27, 2014, to ensure that we receive them in time to give them full consideration.

ADDRESSES: Document availability: The June 13, 2013, proposal (78 FR 35664) is available online at http://www.regulations.gov under Docket No. FWS-HQ-ES-2013-0073 and at http://www.gpo.gov/fdsys/pkg/FR-2013-06-13/pdf/2013-13982.pdf. The independent scientific peer review report on the proposal is available online at http://www.fws.gov/home/wolfrecovery and at http://www.regulations.gov under Docket No. FWS-HQ-ES-2013-0073.

Written Comments: You may submit comments by one of the following methods:

(1) Electronically: Go to the Federal eRulemaking Portal: http://www.regulations.gov. Search for Docket No. FWS-HQ-ES-2013-0073. Please ensure you have found the correct document before submitting your comments. If your comments will fit in the provided comment box, please use this feature of http://www.regulations.gov, as it is most compatible with our comment review procedures. If you attach your comments as a separate document, our preferred file format is Microsoft Word. If you attach multiple comments (such as form letters), our preferred format is a spreadsheet in Microsoft Excel.

(2) By hard copy: Submit by U.S. mail or hand-delivery to: Public Comments Processing, Attn: FWS-HQ-ES-2013-0073; Division of Policy and Directives Management; U.S. Fish and Wildlife Service; 4401 N. Fairfax Drive, MS 2042-PDM; Arlington, VA 22203.

We will post all comments we receive on http://www.regulations.gov. This generally means that we will post any personal information you provide us (see the Public Comments section below for more information).

FOR FURTHER INFORMATION CONTACT: Headquarters Office, Ecological Services; telephone (703) 358-2171; facsimile (703) 358-1735. Direct all questions or requests for additional information to: GRAY WOLF QUESTIONS, U.S. Fish and Wildlife Service, Headquarters Office, Ecological Services, 4401 North Fairfax Drive, Room 420, Arlington, VA 22203. Individuals who are hearing-impaired or speech-impaired may call the Federal Relay Service at 1-800-877-8337 for TTY assistance.

SUPPLEMENTARY INFORMATION:

Background

The Service evaluated the classification status of gray wolves (Canis lupus) currently listed in the contiguous United States and Mexico under the Endangered Species Act (ESA) of 1973, as amended (16 U.S.C. 1531 et seq.). Based on our evaluation, we published a proposed rule on June 13, 2013 (78 FR 35664), to remove the gray wolf from the List of Threatened and Endangered Wildlife but to maintain endangered status for the Mexican wolf by listing it as a subspecies (C. l. baileyi). We proposed these actions because we determined that the best available scientific and commercial information indicates that the currently listed entity is not a valid species under the ESA and that the Mexican wolf (C. l. baileyi) warrants listing as an endangered subspecies.

Upon publication of the proposed rule (June 13, 2013, 78 FR 35664), the Service opened the public comment period on the proposal. On September 5 and October 2, 2013, we announced public hearings on the proposed rule (78 FR 54614 and 78 FR 60813). The September 5 notice also extended the public comment period for the proposed rule to October 28, 2013. Following delays caused by the Federal Government lapse in appropriations, the Service announced rescheduled dates for three of the public hearings, scheduled a fifth public hearing, and extended the public comment period for the proposed rule to December 17, 2013 (78 FR 64192, October 28, 2013). The Service is now reopening the public comment period on the proposal in conjunction with the submission of the peer review report.

In accordance with the Service's July 1, 1994 peer review policy (59 FR 34270) and the Office of Management and Budget's December 16, 2004, Final Information Quality Bulletin for Peer Review, the Service subjected this proposal to independent expert peer review. The purpose of seeking independent peer review is to ensure use of the best scientific and commercial information available and to ensure and maximize the quality, objectivity, utility, and integrity of the information upon which the proposal is based, as well as to ensure that reviews by qualified experts are incorporated into the rulemaking process. The National Center for Ecological Analysis and Synthesis (NCEAS), a research center located at the University of California, Santa Barbara, sponsored this peer review. Additional information on the nature of the peer review can be found in the statement of work at: http://www.fws.gov/science/pdf/Gray_Wolf_Proposed_Delisting_SOW_Peer_Review_12-13-2013_Final.pdf.

Public Comments

We will accept written comments and information during the reopened comment period on our proposal to remove the gray wolf (Canis lupus) from the List of Endangered and Threatened Wildlife but to maintain endangered status for the Mexican wolf by listing it as a subspecies (Canis lupus baileyi). This proposal published in the Federal Register on June 13, 2013 (78 FR 35664).

For the types of information for which we are seeking public comments, please see the Public Comments section of the June 13, 2013, proposed rule (78 FR 35664).

Please note that submissions merely stating support for or opposition to the actions under consideration without providing supporting information, although noted, will not be considered in making a determination. You may submit your comments and materials by one of the methods listed in ADDRESSES. We request that you send comments only by the methods described in ADDRESSES.

We will post your entire comment—including your personal identifying information—on http://www.regulations.gov. If you provide personal identifying information, such as your street address, phone number, or email address, you may request at the top of your document that we withhold this information from public review. However, we cannot guarantee that we will be able to do so.

Comments and materials we receive, as well as some of the supporting documentation we used in preparing the proposed rule, will be available for public inspection on http://www.regulations.gov at Docket No. FWS-HQ-ES-2013-0073, or by appointment, during normal business hours at the office location listed under FOR FURTHER INFORMATION CONTACT.

We intend that any final action resulting from the proposed rule will be based on the best scientific and commercial data available and be as accurate and as effective as possible. Therefore, we request comments or information from other concerned governmental agencies, tribes, the scientific community, industry, or other interested parties concerning the proposed rule. We request that you make your comments as specific as possible and explain the basis for them. In addition, please include sufficient information with your comments to allow us to authenticate any scientific or commercial data you reference or provide.

Our final determination concerning the proposed action will take into consideration all written comments we receive during all comment periods, comments from peer reviewers, and comments received during the public hearings. The comments will be included in the public record for the rulemaking, and we will fully consider them in the preparation of our final determination.

If you previously submitted comments or information on the proposed rule, please do not resubmit them. We will incorporate them into the corresponding public record as part of this comment period, and will fully consider them in the preparation of our final determination.

Authors

The primary authors of this notice are the Ecological Services staff of the Headquarters Office, U.S. Fish and Wildlife Service.

Authority

The authority for this action is the Endangered Species Act of 1973, as amended (16 U.S.C. 1531 et seq.).

Dated: January 31, 2014.
Daniel M. Ashe,
Director, U.S. Fish and Wildlife Service.

[FR Doc. 2014-02817 Filed 2-7-14; 8:45 am]

BILLING CODE 4310-55-P